OFFICE OF PERSONNEL MANAGEMENT

Excepted Service

AGENCY: U.S. Office of Personnel Management (OPM).

ACTION: Notice.

SUMMARY: This notice identifies Schedule A, B, and C appointing authorities applicable to a single agency that were established or revoked from January 1, 2017 to January 31, 2017.

FOR FURTHER INFORMATION CONTACT: Senior Executive Resources Services, Senior Executive Service and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No schedule A authorities to report during January 2017.

Schedule B

No schedule B authorities to report during January 2017.

Schedule C

The following Schedule C appointing authorities were approved during January 2017.

Agency name | Organization name | Position title | Authorization no. | Effective date
COMMISSION ON CIVIL RIGHTS | Office of Commissioners | Special Assistant (2) | CC170001 CC170002 | 01/09/2017 01/09/2017
DEPARTMENT OF DEFENSE | Office of the Secretary of Defense | Special Assistant (Russia, Ukraine, & Eurasia) | DD170034 | 01/04/2017
DEPARTMENT OF TRANSPORTATION | Office of the Secretary (2) | Advisor (2) | DT170028 DT170029 | 01/06/2017 01/06/2017
DEPARTMENT OF THE TREASURY | Office of the Secretary | Special Assistant | DY170038 | 01/04/2017

The following Schedule C appointing authorities were revoked during January 2017.

Agency name | Organization name | Position title | Request no. | Date vacated
DEPARTMENT OF AGRICULTURE | Office of the Assistant Secretary for Congressional Relations | Legislative Analyst | DA160002 | 01/02/2017
| Farm Service Agency | State Executive Director—Washington | DA120107 | 01/20/2017
|  | State Executive Director—District of Columbia | DA160091 | 01/20/2017
|  | State Executive Director—Alaska | DA130166 | 01/20/2017
|  | State Executive Director—Illinois | DA130172 | 01/20/2017
|  | State Executive Director—Kansas | DA130175 | 01/20/2017
|  | State Executive Director—Maine | DA130201 | 01/20/2017
|  | State Executive Director—Michigan | DA130198 | 01/20/2017
|  | State Executive Director—Ohio | DA130203 | 01/20/2017
|  | State Executive Director—Wyoming | DA130191 | 01/20/2017
|  | State Executive Director, North Carolina | DA140021 | 01/20/2017
| Office of Communications | Advance Associate (2) | DA160144 DA160178 | 01/20/2017 01/20/2017
|  | Advance Lead | DA090125 | 01/20/2017
|  | Deputy Director of Scheduling | DA160014 | 01/20/2017
|  | Press Assistant | DA160166 | 01/20/2017
|  | Senior Advisor For Strategic Communications | DA160083 | 01/20/2017
| Office of the Chief Information Officer | Senior Advisor | DA160092 | 01/20/2017
| Office of the Secretary | Confidential Assistant | DA160147 | 01/20/2017
|  | Director of the Office of Faith Based and Neighborhood Outreach | DA140001 | 01/20/2017
|  | Senior Advisor | DA160032 | 01/20/2017
|  | Special Assistant | DA160122 | 01/20/2017
|  | Special Assistant and Advisor to the Secretary | DA160071 | 01/20/2017
|  | White House Liaison | DA160141 | 01/20/2017
| Office of the Under Secretary Farm and Foreign Agricultural Service | State Executive Director | DA160070 | 01/20/2017
| Office of the Under Secretary for Rural Development | Director, Legislative and Public Affairs Staff | DA120022 | 01/20/2017
| Risk Management Agency | Senior Advisor | DA090166 | 01/20/2017
| Rural Housing Service | State Director—Colorado | DA130053 | 01/20/2017
|  | State Director—Alaska | DA130137 | 01/20/2017
|  | State Director—California | DA160021 | 01/20/2017
|  | State Director—Idaho | DA130151 | 01/20/2017
|  | State Director—Indiana | DA130148 | 01/20/2017
|  | State Director—Missouri | DA130164 | 01/20/2017
|  | State Director—Nebraska | DA130138 | 01/20/2017
|  | State Director—Washington | DA130134 | 01/20/2017
DEPARTMENT OF COMMERCE | Office of Policy and Strategic Planning | Senior Advisor for Manufacturing Policy | DC140166 | 01/03/2017
| Advocacy Center | Policy Advisor Special Advisor | DC160162 DC160149 | 01/20/2017 01/20/2017
| Office of the Assistant Secretary and Director General for United States and Foreign Commercial Service | Senior Advisor | DC160210 | 01/20/2017
| Office of the Assistant Secretary for Enforcement and Compliance | Senior Advisor Special Assistant | DC160030 DC160075 | 01/20/2017 01/20/2017
| Office of the Assistant Secretary for Global Markets | Special Advisor | DC130057 | 01/20/2017
| Office of the Assistant Secretary for Industry and Analysis | Director, Office of Advisory Committees and Industry Outreach | DC170008 | 01/20/2017
|  | Senior Advisor | DC170006 | 01/20/2017
|  | Senior Director | DC160101 | 01/20/2017
|  | Special Assistant | DC160180 | 01/20/2017
| Bureau of Industry and Security | Chief of Staff | DC170007 | 01/20/2017
|  | Congressional Affairs Specialist | DC160124 | 01/20/2017
|  | Special Assistant | DC160176 | 01/20/2017
| Office of the Director General of the United States and Foreign Commercial Service and Assistant Secretary for Global Markets | Advisor Director of Outreach Special Advisor | DC150140 DC130086 DC160209 | 01/20/2017 01/20/2017 01/20/2017
| Economic Development Administration | Senior Advisor (3) | DC160195 DC160166 DC160163 | 01/20/2017 01/20/2017 01/20/2017
|  | Press Secretary | DC160146 | 01/20/2017
|  | Special Assistant | DC150136 | 01/20/2017
| Immediate Office of the Secretary | Executive Assistant to the Secretary | DC150168 | 01/20/2017
|  | Special Advisor to the Secretary and Director of the Immediate Office of the Secretary | DC160090 | 01/20/2017
| National Travel and Tourism | Special Assistant | DC160002 | 01/20/2017
| Office of Business Liaison | Deputy Director Special Assistant | DC160186 DC160110 | 01/20/2017 01/20/2017
| Office of Executive Secretariat | Associate Director, Office of the Executive Secretariat | DC160184 | 01/20/2017
|  | Confidential Assistant | DC170009 | 01/20/2017
|  | Deputy Director | DC170001 | 01/20/2017
|  | Special Advisor | DC160192 | 01/20/2017
| Office of Legislative and Intergovernmental Affairs | Associate Director Associate Director for Oversight | DC160108 DC150141 | 01/20/2017 01/20/2017
|  | Confidential Assistant | DC160105 | 01/20/2017
|  | Director of Intergovernmental Affairs | DC160161 | 01/20/2017
| Office of Strategic Planning | Confidential Assistant | DC150164 | 01/20/2017
| Office of Policy and Strategic Planning | Policy Advisor | DC150065 | 01/20/2017
| Office of Public Affairs | Deputy Director of Public Affairs and Director of Speechwriting | DC160106 | 01/20/2017
|  | Deputy Director of Speechwriting | DC160107 | 01/20/2017
|  | Press Assistant (2) | DC160165 DC160197 | 01/20/2017 01/20/2017
|  | Speechwriter and Press Assistant | DC160141 | 01/20/2017
| Office of Scheduling and Advance | Director of Scheduling and Special Advisor to the Secretary | DC160196 | 01/20/2017
|  | Scheduling and Advance Assistant | DC160203 | 01/20/2017
|  | Senior Advisor | DC160185 | 01/20/2017
| Office of the Assistant Secretary for Economic Development | Chief of Staff for Economic Development | DC110094 | 01/20/2017
|  | Director of External Affairs | DC160151 | 01/20/2017
|  | Director of Public Affairs | DC160157 | 01/20/2017
|  | Senior Advisor | DC160038 | 01/20/2017
|  | Special Assistant | DC160005 | 01/20/2017
| Office of the Assistant Secretary for Export Administration | Senior Advisor | DC120024 | 01/20/2017
| Office of the Chief Financial Officer and Assistant Secretary for Administration | Director, Shared Services Change and Communications Management | DC160096 | 01/20/2017
|  | Senior Advisor and Chief of Staff to the Chief Financial Officer and Assistant Secretary for Administration | DC160119 | 01/20/2017
|  | Special Assistant to the Chief Financial Officer and Assistant Secretary for Administration | DC160181 | 01/20/2017
| Office of the Chief Information Officer | Chief of Staff | DC160010 | 01/20/2017
| Office of the Chief of Staff | Advance Assistant | DC150146 | 01/20/2017
|  | Advance Specialist (2) | DC150110 DC160088 | 01/20/2017 01/20/2017
|  | Confidential Assistant | DC160190 | 01/20/2017
|  | Deputy Director of Advance and Special Assistant to the Secretary | DC150106 | 01/20/2017
|  | Director of Advance and Protocol and Senior Advisor for Strategic Initiatives | DC150115 | 01/20/2017
|  | Director, Office of Faith Based and Neighborhood Partnerships | DC160034 | 01/20/2017
|  | Senior Advisor to the Secretary | DC130066 | 01/20/2017
|  | Special Advisor to the Chief of Staff | DC160191 | 01/20/2017
| Office of the Deputy Assistant Secretary | Associate Director of Strategic Partnerships | DC160100 | 01/20/2017
|  | Policy Advisor | DC150154 | 01/20/2017
|  | Special Advisor | DC160116 | 01/20/2017
| Office of the Deputy Secretary | Special Advisor | DC160199 | 01/20/2017
|  | Special Assistant | DC160189 | 01/20/2017
| Office of the Director | Associate Director of Legislative, Education and Intergovernmental Affairs | DC160033 | 01/20/2017
|  | Senior Advisor | DC150139 | 01/20/2017
|  | Senior Advisor for Minority-Owned Business Enterprise Policy | DC160031 | 01/20/2017
|  | Senior Advisor to the National Director on Business Development | DC160117 | 01/20/2017
| Office of the General Counsel | Deputy Counsel for Strategic Initiatives | DC140156 | 01/20/2017
|  | Senior Counsel to the General Counsel | DC160143 | 01/20/2017
|  | Special Assistant | DC150035 | 01/20/2017
| Office of the Under Secretary | Chief Speechwriter and Senior Advisor | DC160091 | 01/20/2017
|  | Deputy Chief Communications Officer for Strategic Communications | DC160095 | 01/20/2017
|  | Deputy Chief of Staff | DC160004 | 01/20/2017
|  | Deputy Director, Office of Public Affairs | DC160171 | 01/20/2017
|  | Director of Congressional and Public Affairs | DC160179 | 01/20/2017
|  | Director, Office of Legislative Affairs | DC130042 | 01/20/2017
|  | Senior Advisor (6) | DC140104 DC150087 DC160017 DC160003 DC160021 DC160043 | 01/20/2017 01/20/2017 01/20/2017 01/20/2017 01/20/2017 01/20/2017
|  | Senior Advisor and Director of Public Affairs | DC090176 | 01/20/2017
|  | Senior Advisor for Trade and Strategic Initiatives | DC150012 | 01/20/2017
|  | Senior Advisor to the Under Secretary (2) | DC160011 DC140159 | 01/20/2017 01/20/2017
|  | Senior Policy Advisor | DC130077 | 01/20/2017
|  | Special Assistant (2) | DC160103 DC160207 | 01/20/2017 01/20/2017
|  | Special Advisor | DC140137 | 01/20/2017
| Office of White House Liaison | Deputy Director, Office of White House Liaison | DC150098 | 01/20/2017
|  | Director, Office of White House Liaison | DC160094 | 01/20/2017
|  | Special Advisor | DC160177 | 01/20/2017
|  | Special Assistant | DC160122 | 01/20/2017
COMMISSION ON CIVIL RIGHTS | Office of the Commissioner | Special Assistant Special Assistant to the Commissioner | CC160001 CC150001 | 01/03/2017 01/27/2017
OFFICE OF THE SECRETARY OF DEFENSE | Office of the Assistant Secretary of Defense (Asian and Pacific Security Affairs) | Special Assistant to the Deputy Assistant Secretary of Defense for East Asia | DD160137 | 01/20/2017
| Office of Under Secretary of Defense (Intelligence) | Chief of Staff and Assistant for Sensitive Activities | DD150111 | 01/20/2017
|  | Cyber Advisor | DD170016 | 01/20/2017
|  | Special Assistant to the Under Secretary of Defense (Intelligence) | DD150189 | 01/20/2017
| Washington Headquarters Services | Defense Fellow (14) | DD150019 DD150138 | 01/20/2017 01/20/2017
|  |  | DD150173 | 01/20/2017
|  |  | DD150143 | 01/20/2017
|  |  | DD150139 | 01/20/2017
|  |  | DD150202 | 01/20/2017
|  |  | DD160158 | 01/20/2017
|  |  | DD160170 | 01/20/2017
|  |  | DD160179 | 01/20/2017
|  |  | DD160180 | 01/20/2017
|  |  | DD160171 | 01/20/2017
|  |  | DD160195 | 01/20/2017
|  |  | DD170017 | 01/20/2017
|  |  | DD170009 | 01/20/2017
FEDERAL COMMUNICATIONS COMMISSION | Office of Legislative Affairs | Director, Office of Legislative Affairs | FC150010 | 01/20/2017
FEDERAL MEDIATION AND CONCILIATION SERVICE | Federal Mediation and Conciliation Service | Executive Assistant | FM150002 | 01/20/2017
| Office of the Director | Senior Advisor | FM160002 | 01/20/2017
DEPARTMENT OF HEALTH AND HUMAN SERVICES | Administration for Children and Families | Public Affairs Specialist Special Assistant | DH170025 DH160136 | 01/20/2017 01/20/2017
| Centers for Medicare and Medicaid Services | Senior Advisor | DH160016 | 01/20/2017
| Health Resources and Services Administration Office of the Administrator | Policy Advisor Special Assistant | DH160149 DH150142 | 01/20/2017 01/20/2017
| National Institutes of Health | Director for Patient Engagement | DH160116 | 01/20/2017
|  | Policy Analyst | DH160140 | 01/20/2017
| Office for Civil Rights | Special Assistant | DH150193 | 01/20/2017
| Office of the Assistant Secretary for Health | Director of Communications | DH140042 | 01/20/2017
| Office of the Assistant Secretary for Public Affairs | Director of Speechwriting | DH160163 | 01/20/2017
|  | National Press Secretary for Health Care | DH160157 | 01/20/2017
| Office of the Deputy Secretary | Chief of Staff to the Deputy Secretary | DH160043 | 01/20/2017
|  | Special Assistant | DH160120 | 01/20/2017
| Office of the Secretary | Confidential Assistant (2) | DH150157 DH160145 | 01/20/2017 01/20/2017
|  | Confidential Assistant to the Secretary | DH160112 | 01/20/2017
|  | Policy Advisor (3) | DH130099 DH150141 DH160155 | 01/20/2017 01/20/2017 01/20/2017
|  | Special Assistant (2) | DH160015 DH160019 | 01/20/2017 01/20/2017
DEPARTMENT OF HOMELAND SECURITY | Office of Assistant Secretary for Legislative Affairs | Associate Director (2) | DM160165 DM160182 | 01/07/2017 01/20/2017
|  | Legislative Director | DM160164 | 01/20/2017
| Federal Emergency Management Agency | Counselor to the Administrator | DM160105 | 01/20/2017
|  | Director of Legislative Affairs | DM120132 | 01/20/2017
| Office of the Assistant Secretary for Intergovernmental Affairs | Intergovernmental Affairs Coordinator | DM160171 | 01/20/2017
| Office of the Assistant Secretary for Public Affairs | Director of Strategic Engagement | DM160184 | 01/20/2017
|  | Speechwriter | DM160133 | 01/20/2017
| Office of the Chief of Staff | Director of Trips of Advance | DM160238 | 01/20/2017
|  | Special Assistant to the White House Liaison | DM160276 | 01/20/2017
| Office of the Executive Secretariat | Senior Advisor | DM160148 | 01/20/2017
| Office of the General Counsel | Special Assistant to the General Counsel and Attorney Advisor | DM160244 | 01/20/2017
|  | Special Counsel | DM150187 | 01/20/2017
| Office of the Secretary (2) | Confidential Assistant | DM160273 | 01/20/2017
|  | Counselor | DM160036 | 01/20/2017
| United States Citizenship and Immigration Services | Advisor Special Assistant | DM160255 DM160197 | 01/20/2017 01/20/2017
| United States Customs and Border Protection | Senior Advisor for Strategic Communication | DM160136 | 01/20/2017
| United States Immigration and Customs Enforcement | Deputy Chief of Staff | DM160029 | 01/20/2017
|  | Senior Advisor to the Director | DM150185 | 01/20/2017
|  | Special Assistant | DM160191 | 01/20/2017
DEPARTMENT OF HOUSING AND URBAN DEVELOPMENT | Office of Policy Development and Research | Deputy Assistant Secretary for International and Philanthropic Innovation | DU140023 | 01/07/2017
| Office of Congressional and Intergovernmental Relations | Congressional Relations Specialist | DU150016 | 01/20/2017
|  | Advisor to Intergovernmental Relations | DU160009 | 01/20/2017
|  | Deputy Assistant Secretary for Congressional Relations | DU090059 | 01/20/2017
|  | Deputy Assistant Secretary for Intergovernmental Affairs | DU120029 | 01/20/2017
|  | Deputy Assistant Secretary for Legislative Affairs | DU150021 | 01/20/2017
|  | Senior Advisor | DU150079 | 01/20/2017
| Office of Fair Housing and Equal Opportunity | Special Policy Advisor | DU160021 | 01/20/2017
| Office of Field Policy and Management | Senior Advisor | DU150078 | 01/20/2017
| Office of Housing | Advisor for Single Family Asset Management | DU160033 | 01/20/2017
| Office of Policy Development and Research | Special Advisor to the Assistant Secretary | DU160022 | 01/20/2017
| Office of Public Affairs | Deputy Assistant Secretary for Public Affairs (2) | DU150073 DU160041 | 01/20/2017 01/20/2017
|  | Deputy Assistant Secretary for Public Engagement | DU120028 | 01/20/2017
|  | Deputy of Speechwriting | DU160043 | 01/20/2017
|  | Press Secretary | DU160019 | 01/20/2017
|  | Senior Advisor for Public Engagement | DU160026 | 01/20/2017
| Office of Public Indian Housing | Senior Policy Advisor (2) | DU150074 DU160044 | 01/20/2017 01/20/2017
|  | Special Advisor (2) | DU160011 DU160012 | 01/20/2017 01/20/2017
| Office of the Administration | Advance Coordinator | DU160005 | 01/20/2017
|  | Director of Advance | DU150004 | 01/20/2017
|  | Director of Scheduling | DU160003 | 01/20/2017
| Office of the Chief Human Capital Officer | Director, Office of Executive Scheduling and Operations | DU130014 | 01/20/2017
| Office of the Deputy Secretary | Special Assistant | DU160031 | 01/20/2017
|  | Special Assistant to the Deputy Secretary | DU160036 | 01/20/2017
| Office of the General Counsel | Senior Counsel (2) | DU130027 DU150050 | 01/20/2017 01/20/2017
|  | Special Assistant | DU160045 | 01/20/2017
| Office of the Secretary | Deputy White House Liaison | DU170002 | 01/20/2017
|  | Executive Assistant to the Secretary | DU140038 | 01/20/2017
|  | Senior Policy Advisor (3) | DU150009 DU150063 DU160032 | 01/20/2017 01/20/2017 01/20/2017
|  | Special Advisor | DU160023 | 01/20/2017
|  | White House Liaison | DU140035 | 01/20/2017
DEPARTMENT OF THE INTERIOR | Office of Assistant Secretary—Land and Minerals Management | Counselor to the Assistant Secretary | DI160067 | 01/06/2017
| Bureau of Land Management | Senior Advisor | DI160070 | 01/06/2017
| Office of the Solicitor | Counselor to the Solicitor | DI150084 | 01/07/2017
| Office of Assistant Secretary—Fish and Wildlife and Parks | Advisor Senior Advisor to the Assistant Secretary for Fish, Wildlife and Parks | DI160028 DI130041 | 01/20/2017 01/20/2017
| Office of Assistant Secretary—Indian Affairs | Advisor to the Assistant Secretary Indian Affairs | DI160013 | 01/20/2017
|  | Senior Advisor to the Assistant Secretary—Indian Affairs (2) | DI150120 DI160032 | 01/20/2017 01/20/2017
| Office of Assistant Secretary—Insular Areas | Advisor | DI150122 | 01/20/2017
| Office of Assistant Secretary—Land and Minerals Management | Advisor | DI140034 | 01/20/2017
| Office of Assistant Secretary—Policy, Management and Budget | Advisor Special Assistant to the Assistant Secretary for Policy, Management and Budget | DI140038 DI150049 | 01/20/2017 01/20/2017
| Bureau of Ocean Energy Management | Senior Advisor Special Assistant | DI160075 DI160004 | 01/20/2017 01/20/2017
| Bureau of Reclamation | Chief, Congressional and Legislative Affairs Office | DI150085 | 01/20/2017
| Bureau of Safety and Environmental Enforcement | Advisor | DI160009 | 01/20/2017
| National Park Service | Advisor | DI160024 | 01/20/2017
|  | Centennial Campaign Public Affairs Specialist | DI150006 | 01/20/2017
| Office of Congressional and Legislative Affairs | Counsel Deputy Director for Congressional and Legislative Affairs | DI160052 DI150026 | 01/20/2017 01/20/2017
|  | Deputy Director, Office of Congressional and Legislative Affairs (2) | DI160057 DI140008 | 01/20/2017 01/20/2017
|  | Senior Counsel | DI140049 | 01/20/2017
|  | Special Assistant, Office of Congressional and Legislative Affairs | DI150121 | 01/20/2017
| Office of Special Trustee for American Indians | Advisor | DI150125 | 01/20/2017
| Secretary's Immediate Office | Advance Representative | DI150093 | 01/20/2017
|  | Advisor | DI160026 | 01/20/2017
|  | Deputy Communications Director | DI150086 | 01/20/2017
|  | Deputy Director | DI160003 | 01/20/2017
|  | Deputy Director, Intergovernmental Affairs | DI160002 | 01/20/2017
|  | Deputy Press Secretary | DI160031 | 01/20/2017
|  | Director of Digital Strategy | DI150113 | 01/20/2017
|  | Director of Scheduling and Advance | DI150057 | 01/20/2017
|  | Senior Advisor and Press Secretary | DI150092 | 01/20/2017
|  | Senior Advisor for Alaskan Affairs | DI150098 | 01/20/2017
|  | Senior Advisor to the Secretary | DI130043 | 01/20/2017
|  | Special Assistant (5) | DI150010 DI150099 DI150130 DI160027 DI160018 | 01/20/2017 01/20/2017 01/20/2017 01/20/2017 01/20/2017
|  | Special Assistant to the Secretary | DI150074 | 01/20/2017
|  | White House Liaison | DI150011 | 01/20/2017
|  | Writer | DI150104 | 01/20/2017
| United States Fish and Wildlife Service | Special Assistant | DI150047 | 01/20/2017
DEPARTMENT OF JUSTICE | Office of Legislative Affairs | Attorney Advisor | DJ150088 | 01/02/2017
|  | Chief of Staff and Attorney Advisor | DJ150072 | 01/03/2017
DEPARTMENT OF LABOR | Office of the Assistant Secretary for Policy | Chief of Staff | DL140030 | 01/03/2017
| Office of the Secretary | Special Assistant | DL160092 | 01/20/2017
NATIONAL AERONAUTICS AND SPACE ADMINISTRATION | Office of Communications | Public Affairs Specialist | NN140019 | 01/18/2017
|  | Media Relations Specialist | NN160069 | 01/19/2017
| Office International and Interagency Relations | International Affairs Specialist | NN150005 | 01/20/2017
| Office of Legislative and Intergovernmental Affairs | Executive Officer Legislative Affairs Specialist (2) | NN110051 NN160006 NN160090 | 01/20/2017 01/20/2017 01/20/2017
| Office of the Administrator | White House Liaison | NN150073 | 01/20/2017
| Office of the Chief Financial Officer/Comptroller | Policy Analyst | NN140010 | 01/20/2017
OCCUPATIONAL SAFETY AND HEALTH REVIEW COMMISSION | Occupational Safety and Health Review Commission | Confidential Assistant to the Chairman | SH150004 | 01/26/2017
| Office of Commissioners | Counsel to A Commissioner | SH150005 | 01/26/2017
OFFICE OF MANAGEMENT AND BUDGET | Office of Communications | Assistant Press Secretary | BO160038 | 01/20/2017
|  | Deputy Associate Director for Communications | BO150038 | 01/20/2017
| Office of General Counsel | Confidential Assistant | BO150027 | 01/20/2017
| General Government Programs | Confidential Assistant | BO160013 | 01/20/2017
| Health Division | Confidential Assistant | BO160001 | 01/20/2017
| Office of Legislative Affairs | Confidential Assistant | BO150029 | 01/20/2017
|  | Deputy to the Associate Director for Legislative Affairs | BO160025 | 01/20/2017
|  | Legislative Analyst | BO150021 | 01/20/2017
| National Security Programs | Confidential Assistant (2) | BO160027 BO150024 | 01/20/2017 01/20/2017
| Office of E-Government and Information Technology | Confidential Assistant | BO160042 | 01/20/2017
|  | Program Analyst | BO150034 | 01/20/2017
| Office of Information and Regulatory Affairs | Confidential Assistant (2) | BO150007 BO160036 | 01/20/2017 01/20/2017
|  | Counselor to the Administrator | BO140034 | 01/20/2017
| Office of the Director | Assistant to the Director | BO160041 | 01/20/2017
|  | Confidential Assistant (5) | BO140016 BO150025 BO160015 BO160022 BO160040 | 01/20/2017 01/20/2017 01/20/2017 01/20/2017 01/20/2017
|  | Senior Advisor | BO150016 | 01/20/2017
| Staff Offices | Press Secretary | BO160005 | 01/20/2017
OFFICE OF PERSONNEL MANAGEMENT | Office of the Director | Executive Assistant | PM160025 | 01/04/2017
| Office of Congressional, Legislative, and Intergovernmental Affairs | Deputy Director | PM120017 | 01/20/2017
|  | Senior Congressional Relations Officer | PM160005 | 01/20/2017
| Employee Services | Senior Advisor for Workforce Planning and Talent Development | PM160017 | 01/20/2017
| Office of Healthcare and Insurance | Program Analyst | PM160015 | 01/20/2017
| Office of Communications | Chief Speechwriter and Senior Advisor for Communications | PM140004 | 01/20/2017
|  | Deputy Director of Communication | PM160019 | 01/20/2017
|  | Public Affairs Specialist | PM160009 | 01/20/2017
| Office of the Chief Information Officer | Special Assistant to the Chief Information Officer | PM160004 | 01/20/2017
| Office of the Director | Assistant Director, Office of Public Engagement | PM140010 | 01/20/2017
|  | Deputy Chief Operating Officer | PM140015 | 01/20/2017
|  | Executive Assistant | PM160021 | 01/20/2017
|  | Executive Assistant to the Director | PM160010 | 01/20/2017
|  | Project Manager | PM160027 | 01/20/2017
|  | Special Assistant | PM160011 | 01/20/2017
| Office of Planning and Policy Analysis | Deputy Performance Improvement Officer | PM120013 | 01/20/2017
OFFICE OF THE UNITED STATES TRADE REPRESENTATIVE | Intergovernmental Affairs and Public Liaison | Director for Private Sector Engagement | TN160004 | 01/20/2017
| Office of the Ambassador | Special Assistant to the User | TN150002 | 01/20/2017
| Office of the United States Trade Representative | Deputy Assistant United States Trade Representative for Public and Media Affairs | TN140002 | 01/20/2017
OFFICIAL RESIDENCE OF THE VICE PRESIDENT | Official Residence of the Vice President | Deputy Residence Manager | RV150001 | 01/19/2017
PRESIDENT'S COMMISSION ON WHITE HOUSE FELLOWSHIPS | President's Commission on White House Fellowships | Associate Director Special Assistant to the Director | WH160003 WH160004 | 01/20/2017 01/20/2017
SECURITIES AND EXCHANGE COMMISSION | Office of the Chief Accountant | Director, Office of the Chief Accountant | SE140004 | 01/21/2017
SMALL BUSINESS ADMINISTRATION | Office of Communications and Public Liaison | Deputy Associate Administrator for Communications and Public Liaison | SB160013 | 01/02/2017
| Office Field Operations | Regional Administrator, Region VII | SB110013 | 01/03/2017
|  | Regional Administrator, Region II | SB140022 | 01/06/2017
|  | Regional Administrator, Region VI | SB090061 | 01/10/2017
| Office of Capital Access | Senior Advisor | SB150053 | 01/20/2017
| Office of Communications and Public Liaison | Assistant Administrator for Public Engagement | SB160028 | 01/20/2017
|  | Speech Writer | SB160020 | 01/20/2017
| Office of Congressional and Legislative Affairs | Deputy Assistant Administrator For Congressional and Legislative Affairs (2) | SB150031 SB150040 | 01/20/2017 01/20/2017
|  | Legislative Policy Advisor | SB160002 | 01/20/2017
| Office of Field Operations | Regional Administrator | SB090058 | 01/20/2017
|  | Regional Administrator, Region III | SB120037 | 01/20/2017
|  | Regional Administrator, Region IX | SB140004 | 01/20/2017
|  | Senior Advisor to the Associate Administrator of Field Operations | SB160021 | 01/20/2017
| Office of Government Contracting and Business Development | Senior Advisor Special Advisor | SB150057 SB160029 | 01/20/2017 01/20/2017
| Office of International Trade | Senior Advisor, Office of International Trade | SB150017 | 01/20/2017
| Office of Investment and Innovation | Senior Advisor Special Advisor | SB150016 SB150059 | 01/20/2017 01/20/2017
| Office of Native American Affairs | Assistant Administrator for Native American Affairs | SB160022 | 01/20/2017
| Office of the Administrator | Confidential Assistant to the Administrator | SB150012 | 01/20/2017
|  | Director of Advance and Operations | SB160017 | 01/20/2017
|  | Senior Advisor | SB160018 | 01/20/2017
|  | Senior Advisor to the Chief of Staff | SB160025 | 01/20/2017
|  | Senior Advisor to the Deputy Administrator | SB150042 | 01/20/2017
|  | Special Assistant to the Administrator (2) | SB160016 SB160019 | 01/20/2017 01/20/2017
|  | White House Liaison | SB150019 | 01/20/2017
| Office of the General Counsel | Deputy General Counsel | SB150024 | 01/20/2017
DEPARTMENT OF STATE | Bureau of International Organizational Affairs | Senior Advisor | DS130025 | 01/20/2017
DEPARTMENT OF TRANSPORTATION | Office of the Secretary | Special Assistant (Scheduling and Advance) (2) | DT150083 DT150084 | 01/07/2017 01/07/2017
|  | Advisor to the Chief of Staff (2) | DT170028 DT170029 | 01/20/2017 01/20/2017
|  | Counselor to the Deputy Secretary | DT100061 | 01/20/2017
|  | Deputy White House Liaison | DT170017 | 01/20/2017
|  | Director of Advance | DT170027 | 01/20/2017
|  | Director of Scheduling | DT170023 | 01/20/2017
|  | White House Liaison | DT160068 | 01/20/2017

Authority: 5 U.S.C. 3301 and 3302; E.O. 10577, 3 CFR, 1954-1958 Comp., p. 218.

U.S. Office of Personnel Management.
Kathleen M. McGettigan,
Acting Director.

[FR Doc. 2017-12576 Filed 6-16-17; 8:45 am]

BILLING CODE 6325-39-P